DEPARTMENT OF ENERGY

Bonneville Power Administration

I-5 Corridor Reinforcement Project

AGENCY: Bonneville Power Administration (BPA), Department of Energy (DOE).

ACTION: Notice of Intent (NOI) to prepare an Environmental Impact Statement (EIS) and notice of floodplain and wetlands involvement.

SUMMARY: BPA intends to prepare an EIS in accordance with the National Environmental Policy Act (NEPA) on the construction, operation, and maintenance of a proposed 500-kilovolt (kV) transmission line and associated substations. The project would be located in Cowlitz and Clark counties, Washington, and Multnomah County, Oregon. The new BPA transmission line would extend generally southeast from a new substation proposed near Castle Rock in Cowlitz County, Washington (referred to as Castle Rock Substation), to a new substation proposed near BPA's existing Troutdale Substation near the city of Troutdale in Multnomah County, Oregon. Multiple preliminary transmission line route segments have been identified that, when combined, result in various transmission line routing alternatives approximately 70 miles long. The proposed transmission line and substations are needed to help ease transmission system congestion in the southwest Washington and northwest Oregon area, allowing BPA to fulfill existing and new transmission service requests for existing and new generation; improve system reliability; and meet continued electric load growth.

With this NOI, BPA is initiating the public scoping process for the EIS. BPA is requesting comments about potential environmental impacts that it should consider as it prepares the EIS for the proposed project, as well as comments on preliminary transmission line route segments and the proposed substations that have been identified.

In accordance with DOE regulations for compliance with floodplain and wetlands environmental review requirements, BPA will prepare a floodplain and wetlands assessment to avoid or minimize potential harm to or within any affected floodplains and wetlands. The assessment will be included in the EIS.

DATES: Oral and written scoping comments are due to BPA no later than November 23, 2009. Comments may also be made at the EIS scoping meetings to be held between October 27 and November 7, 2009 at the addresses below.

ADDRESSES: Send letters with comments on the proposed scope of the EIS to I-5 Corridor Reinforcement Project, P.O. Box 9250, Portland, OR, 97207, or by fax to (888) 315-4503. You may also call BPA's comment and information line at (800) 230-6593 and leave a comment, or submit comments online at http://www.bpa.gov/go/i5. BPA will post all comments on BPA's Web site at http://www.bpa.gov/i5. Submit requests to be placed on the project mailing list, for information, and questions to the same address and numbers above.

On Tuesday, October 27, 2009, an open-house style scoping meeting will be held from 4 p.m. to 7 p.m. at Amboy Middle School, 22115 NE Chelatchie Road, Amboy, Washington 98601. On Wednesday, October 28, 2009, a scoping meeting will be held from 4 p.m. to 7 p.m. at Clark College, Gaiser Student Hall, 1933 Fort Vancouver Way, Vancouver, Washington 98663. On Thursday, October 29, 2009, a scoping meeting will be held from 4 p.m. to 7 p.m. at Mark Morris High School, 1602 Mark Morris Court, Longview, Washington 98632. On Tuesday, November 3, 2009, a scoping meeting will be held from 4 p.m. to 7 p.m. at Liberty Middle School, 1612 NE Garfield Street, Camas, Washington 98607. On Thursday, November 5, 2009, a scoping meeting will be held from 4 p.m. to 7 p.m. at Gresham Holiday Inn, 2752 NE Hogan Drive, Gresham, Oregon 97030. On Saturday, November 7, 2009, a scoping meeting will be held from 1 p.m. to 4 p.m. at Hazel Dell Grange, 7509 NE Hazel Dell Avenue, Vancouver, Washington 98665. The Hazel Dell Grange is not wheelchair accessible.

At these informal meetings we will provide maps and other information about the project and have members of the project team available to answer questions and accept oral and written comments. You may stop by any time during these open houses.

FOR FURTHER INFORMATION CONTACT: Nancy Wittpenn, Environmental Project Lead, Bonneville Power Administration KEC-4, P.O. Box 3621, Portland, Oregon 97208-3621; toll-free telephone 1-800-282-3713; direct telephone 503-230-3297; or e-mail nawittpenn@bpa.gov. You may also contact Mark Korsness, Project Manager, Bonneville Power Administration TNP-3, PO Box 3621, Portland, Oregon, 97208-3621; toll-free telephone 1-800-282-3713; direct telephone 360-619-6326; or e-mail makorsness@bpa.gov. Additional information can be found at BPA's Web site: http://www.bpa.gov/go/i5.

SUPPLEMENTARY INFORMATION: Southwest Washington and northwest Oregon, including Vancouver, Longview, Portland, and surrounding suburban cities and towns, have a high concentration of industrial, commercial and residential electric load. The power plants that serve this area include hydroelectric dams; gas, coal and nuclear plants; and more recently, wind farms. These power facilities use the electrical transmission system to get the power they produce to the people and industries that use it.

The transmission system in this area has become increasingly congested and is approaching its capacity as power production, particularly from wind, and electrical use have increased. In addition, BPA continues to receive requests for more transmission service. BPA's annual Network Open Season process allows utilities, power generators, and other power marketers to make long-term transmission service requests on BPA's transmission system. Existing and new requests received through BPA's 2008 Network Open Season process further increases the likelihood that the transmission system will exceed its capacity. BPA must respond to these requests for transmission service under its Open Access Transmission Tariff. This tariff, which is generally consistent with the Federal Energy Regulatory Commission's pro forma open access tariff, has procedures that provide access to BPA's transmission system for all eligible customers, consistent with all BPA requirements (including the availability or development of sufficient transmission capacity) and subject to an environmental review under NEPA. If an additional line is not built, continued congestion will jeopardize transmission system reliability and, possibly, lead to power interruptions or blackouts in the area.

The proposed I-5 Corridor Reinforcement Project would help respond to these existing and new requests for transmission service, help accommodate load growth, and address reliability concerns. BPA, therefore, will prepare an EIS under NEPA to assist the agency as it decides whether to build the proposed project, and if a decision is made to build a line, which transmission line alternative should be constructed.

BPA will be the lead agency for preparation of the EIS. In furtherance of existing cooperative agreements between BPA and the States of Washington and Oregon, the Washington Energy Facility Site Evaluation Council (Washington EFSEC) and the Oregon Energy Facility Siting Council (Oregon EFSC) will be cooperating agencies in the NEPA process. Among other things, these state agencies will assist BPA in evaluating transmission line alternatives, identifying State interests that should be addressed in the EIS, and participating in preparation of the EIS. Additional cooperating agencies for the EIS may be identified as the proposed project proceeds through the NEPA process.

Preliminary Route Segments for Developing Alternatives. BPA's proposed 500-kV transmission line would extend from a new substation near Castle Rock, Washington, to a new substation near Troutdale, Oregon. BPA has identified many preliminary transmission line route segments that can be combined in various ways to form different potential routes for the proposed transmission line. All potential transmission line routes generally extend southeast from Castle Rock through Cowlitz County, Washington, and then generally south through Clark County, Washington, to a proposed crossing of the Columbia River near the city of Camas, Washington. Just south of this river crossing, all potential line routes would end at the proposed new substation directly north of the city of Troutdale in Oregon.

The route segments vary in length and are composed of either existing or new rights-of-way, or parallel existing rights-of-way. Route segments cross privately and publicly owned urban and rural lands. Depending on the combination of these route segments, potential routes for the proposed transmission line vary in length but are approximately 70 miles long.

While many preliminary route segments have already been identified, other route segments may be identified and existing route segments may be modified or eliminated as a result of the scoping process. BPA will use comments received during the scoping period, continuing discussions with various interested parties, and further transmission line design work to develop route segments into transmission line alternatives to be studied in the draft EIS. BPA will also consider the No Action Alternative, that is, not building the transmission line and substations, in the draft EIS.

Public Participation and Identification of Environmental Issues. The potential environmental issues identified for most transmission line projects involve land use, recreation, transportation and aviation, socioeconomics, cultural resources, visual resources, public health and safety, noise, electric and magnetic field effects, sensitive plants and animals and their habitats, soil erosion, wetlands, floodplains, and fish and water resources. BPA will conduct a 45-day scoping period during which tribes; affected landowners; concerned citizens; special interest groups; local, State, and Federal governments; and any other interested parties are invited to comment on the scope of the EIS, including the route segments under consideration and the environmental impacts to be evaluated. Scoping will help BPA add, modify, or eliminate route segments and ultimately help BPA develop transmission line alternatives to be studied in the EIS. Scoping will also ensure that a full range of issues related to this proposal is addressed in the EIS, and also will identify significant or potentially significant impacts that may result from the proposed project. When completed, the draft EIS will be circulated for review and comment, and BPA will hold public meetings to answer questions and receive comments. BPA will consider and respond to comments received on the draft EIS in the final EIS. The final EIS is expected to be published in spring 2012. BPA's decision will be documented in a Record of Decision that will follow the final EIS.

Issued in Portland, Oregon, on October 2, 2009.
Stephen J. Wright,
Administrator and Chief Executive Officer.

[FR Doc. E9-24469 Filed 10-9-09; 8:45 am]

BILLING CODE 6450-01-P